DEPARTMENT OF TRANSPORTATION

Federal Highway Administration

Intelligent Transportation Society of America: Public Meeting

AGENCY: Federal Highway Administration (FHWA), DOT.

ACTION: Notice of public meeting.

SUMMARY: The Intelligent Transportation Society of America (ITS AMERICA) will hold a meeting of its Board of Directors on Thursday, November 29, 2001. The meeting begins at 2 p.m. The letter designations that follow each item mean the following: (I) Is an information item; (A) is an action item; (D) is a discussion item. The session includes the following items: (1) Welcome & Introductions (I); (2) Antitrust Statements (I);(3) Approval of 10-year National ITS Program Plan as Program Advice to the U.S. Department of Transportation; (4) Adjournment.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Board of Directors of ITS AMERICA will meet on Thursday, November 29, 2001 at 2 p.m. at the ITS America Offices.

ADDRESSES: 400 Virginia Avenue, SW., Suite 800, Washington, DC 20024-2730. Phone: (202) 484-4847, Fax (202) 484-3483.

FOR FURTHER INFORMATION CONTACT: Materials associated with this meeting may be examined at the offices of ITS AMERICA, 400 Virginia Avenue SW., Suite 800, Washington, DC 20024. Persons needing further information or who request to speak at this meeting should contact Debbie M. Busch at ITS AMERICA by telephone at (202) 484-2904 or by FAX at (202) 484-3483. The DOT contact is Kristy Frizzell, FHWA, HOIT, Washington, DC 20590, (202) 366-9536. Office hours are from 8:30 a.m. to 5 p.m., e.t., Monday through Friday, except for legal holidays.

(23 U.S.C. 315; 49 CFR 1.48)
Issued on: October 31, 2001.
Jeffrey Paniati,
Program Manager, ITS Joint Program Office, Department of Transportation.

[FR Doc. 01-27871 Filed 11-5-01; 8:45 am]

BILLING CODE 4910-22-P